INTERNATIONAL TRADE COMMISSION

[Investigation Nos. 701-TA-567-569 and 731-TA-1343-1345 (Final)]

Silicon Metal From Australia, Brazil, Kazakhstan, and Norway

Determinations

On the basis of the record ¹ developed in the subject investigations, the United States International Trade Commission (“Commission”) determines, pursuant to the Tariff Act of 1930 (“the Act”), that an industry in the United States is not materially injured or threatened with material injury, and the establishment of an industry in the United States is not materially retarded by reason of imports of silicon metal (provided for in subheadings 2804.69.10 and 2804.69.50 of the Harmonized Tariff Schedule of the United States) from Australia, Brazil, and Norway, that have been found by the U.S. Department of Commerce (“Commerce”) to be sold in the United States at less than fair value (“LTFV”), and from Australia, Brazil, and Kazakhstan that have been found by Commerce to be subsidized by the governments of those countries.

¹ The record is defined in sec. 207.2(f) of the Commission's Rules of Practice and Procedure (19 CFR 207.2(f)).

Background

The Commission, pursuant to sections 705(b) and 735(b) of the Act (19 U.S.C. 1671d(b) and 19 U.S.C. 1673d(b)), instituted these investigations effective March 8, 2017, following receipt of petitions filed with the Commission and Commerce by Globe Specialty Metals, Inc., Beverly, Ohio. The final phase of the investigations was scheduled by the Commission following notification of preliminary determinations by Commerce that imports of silicon metal from Australia, Brazil, and Kazakhstan were subsidized within the meaning of section 703(b) of the Act (19 U.S.C. 1671b(b)) and that imports of silicon metal from Australia, Brazil, and Norway were sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on October 27, 2017 (82 FR 49848). The hearing was held in Washington, DC, on February 15, 2018, and all persons who requested the opportunity were permitted to appear in person or by counsel.

The Commission made these determinations pursuant to sections 705(b) and 735(b) of the Act (19 U.S.C. 1671d(b) and 19 U.S.C. 1673d(b)). It completed and filed its determinations in these investigations on April 10, 2018. The views of the Commission are contained in USITC Publication 4773 (April 2018), entitled Silicon Metal from Australia, Brazil, Kazakhstan, and Norway: Investigation Nos. 701-TA-567-569 and 731-TA-1343-1345 (Final).

By order of the Commission.
Issued: April 10, 2018.
Lisa Barton,
Secretary to the Commission.

[FR Doc. 2018-07806 Filed 4-13-18; 8:45 am]

BILLING CODE 7020-02-P